ENVIRONMENTAL PROTECTION AGENCY

[ORD-2003-0011; FRL-7630-5]

Agency Information Collection Activities; Submission to OMB for Review and Approval; Comment Request; Longitudinal Study of Young Children's Exposures in Their Homes to Selected Pesticides, Phthalates, Brominated Flame Retardants, and Perfluorinated Chemicals (A Children's Environmental Exposure Research Study—CHEERS), EPA ICR Number 2126.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before April 2, 2004.

ADDRESSES: Submit your comments, referencing docket ID number ORD-2003-0011, to (1) EPA online using EDOCKET (our preferred method), by e-mail to oei.docket@epa.gov or by mail to: EPA Docket Center, Environmental Protection Agency, Office of Environmental Information Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Interested persons may obtain a copy of this ICR without charge by contacting Barbara Blackwell, National Exposure Research Laboratory, MD-E-205-01, Environmental Protection Agency, 109 TW Alexander Dr., Research Triangle Park, NC 27709; telephone number: (919) 541-2886; fax number: (919) 541-0239; email address: blackwell.barbara@epa.gov. For technical information on the proposed study, contact the Co-Principal investigators: Nicolle S. Tulve, National Exposure Research Laboratory, MD-E-205-04, Environmental Protection Agency, 109 TW Alexander Dr., Research Triangle Park, NC 27709; (919) 541-1077; (919) 541-0905 (fax); tulve.nicolle@epa.gov or Roy Fortmann, National Exposure Research Laboratory, MD-E-205-04, Environmental Protection Agency, 109 TW Alexander Dr., Research Triangle Park, NC 27709; (919) 541-1021; (919) 541-0905 (fax); fortmann.roy@epa.gov.

SUPPLEMENTARY INFORMATION: EPA has submitted the following ICR to OMB for review and approval according to the procedures prescribed in 5 CFR 1320.12. On October 3, 2003 (68 FR 57442), EPA sought comments on this ICR pursuant to 5 CFR 1320.8(d). EPA received numerous requests for the study design, and sent the information via email. There was one formal public comment submitted to the docket. EPA addressed and submitted the responses to the comment using the edocket procedures.

EPA has established a public docket for this ICR under Docket ID No. ORD-2003-0011, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Longitudinal Study of Young Children's Exposures in their Homes to Selected Pesticides, Phthalates, Brominated Flame Retardants, and Perfluorinated Chemicals (A Children's Environmental Exposure Research Study—CHEERS)

Abstract: The U.S. EPA's Office of Research and Development's National Exposure Research Laboratory proposes to conduct a two-year longitudinal field measurement study of young children's (aged 0 to 3 years) potential exposures to current-use pesticides and selected phthalates, polybrominated diphenyl ethers, and perfluorinated compounds that may be found in residential environments. The study will be conducted in Duval County, Jacksonville, Florida over a two-year period from 2004 to 2006. Sixty young children will be recruited into this study in two cohorts: (1) infants recruited into the study soon after birth, and, (2) children recruited into the study at approximately 12 months of age. The study involves up to six monitoring events to each home during the two-year study period during which environmental, personal, biological, and activity pattern data will be collected. Each monitoring event consists of four visits to each participant's home. Aggregate exposure estimates will be conducted for the current-use pesticides and selected phthalates in the study. The data collected on the polybrominated diphenyl ethers and the perfluorinated compounds will provide valuable information on concentrations of these compounds in residential environments, the potential magnitude for exposure, and the temporal and spatial variability of these chemicals in residences.

The data collected in this study is very important to the EPA's Program Offices. The reasons for collecting this data are to better identify the exposure factors, routes, and pathways of exposure for these chemicals, thus improving the Agency's ability to regulate these chemicals, conduct meaningful risk assessments, and develop future studies. Responses to the survey are completely voluntary.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average approximately 6.5 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Residents of Duval County, Jacksonville, Florida.

Estimated Number of Respondents: 60.

Frequency of Response: Quarterly.

Estimated Total Annual Hour Burden: 390.

Estimated Total Annual Respondent Cost: $3,913.

Dated: February 24, 2004.
Oscar Morales,
Director, Collection Strategies Division.

[FR Doc. 04-4704 Filed 3-2-04; 8:45 am]

BILLING CODE 6560-50-P